ARCHITECTURAL AND TRANSPORTATION BARRIERS COMPLIANCE BOARD

36 CFR Parts 1193 and 1194

RIN 3014-AA22

Telecommunications Act Accessibility Guidelines; Electronic and Information Technology Accessibility Standards

AGENCY: Architectural and Transportation Barriers Compliance Board.

ACTION: Notice of meetings.

SUMMARY: The Architectural and Transportation Barriers Compliance Board (Access Board) has established a Telecommunications and Electronic and Information Technology Advisory Committee (Committee) to assist it in revising and updating accessibility guidelines for telecommunications products and accessibility standards for electronic and information technology. This notice announces the dates and times of upcoming committee conference calls.

DATES: The conference calls are scheduled for every Tuesday from January 29, 2008, through April 1, 2008. Calls will begin at 1 p.m. and end at 4 p.m. Eastern time. The conference call on March 11 is scheduled from 1 p.m. until 6 p.m. Eastern time.

ADDRESSES: Individuals can participate in the conference calls by dialing the teleconference numbers which will be posted on the Access Board's Web site at http://www.access-board.gov/sec508/update-index.htm.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Architectural and Transportation Barriers Compliance Board (Access Board) established the Telecommunications and Electronic and Information Technology Advisory Committee (Committee) to assist it in revising and updating accessibility guidelines for telecommunications products and accessibility standards for electronic and information technology. The next committee meetings, which are all conference calls, will focus on outstanding issues which have not yet been resolved. The conference calls are scheduled for every Tuesday, starting on January 29, 2008, through April 1, 2008. Calls will begin at 1 p.m. and end at 4 p.m. Eastern time. The conference call on March 11 is scheduled from 1 p.m. until 6 p.m. Eastern time. The agendas, instructions (including information on captioning), and dial in telephone numbers are available at http://www.access-board.gov/sec508/update-index.htm. Notices of future meetings will be published in the Federal Register.

The committee may cancel or shorten any conference call before it is scheduled to take place depending on the needs of the committee and its progress in discussing and resolving outstanding issues. If a conference call is canceled, a notice will be posted at http://www.access-board.gov/sec508/update-index.htm. All conference calls are open to the public and interested persons can dial in and communicate their views during public comment periods scheduled during the calls. Participants may call in from any location of their choosing.

Lawrence W. Roffee,
Executive Director.

[FR Doc. E8-1229 Filed 1-23-08; 8:45 am]

BILLING CODE 8150-01-P